ENVIRONMENTAL PROTECTION AGENCY

40 CFR Parts 52 and 81

[EPA-R08-OAR-2006-0163; FRL-8452-9]

Approval and Promulgation of Air Quality Implementation Plans; State of Montana; Missoula Carbon Monoxide Redesignation to Attainment, Designation of Areas for Air Quality Planning Purposes, and Approval of Related Revisions

AGENCY: Environmental Protection Agency (EPA).

ACTION: Final rule.

SUMMARY: EPA is approving State Implementation Plan (SIP) revisions submitted by the State of Montana. EPA is approving a request submitted by the State of Montana on May 27, 2005 requesting to redesignate the Missoula “moderate” carbon monoxide (CO) nonattainment area to attainment for the CO National Ambient Air Quality Standard (NAAQS). EPA is also approving the CO maintenance plan, which was also submitted on May 27, 2005 and includes transportation conformity motor vehicle emission budgets (MVEB) for 2000, 2010, and 2020. Lastly, EPA is approving CO periodic emission inventories for 1993 and 1996 that the State had previously submitted for the Missoula nonattainment area. The intended effect of this action is to make federally enforceable those provisions that EPA is approving. This action is being taken under section 110 of the Clean Air Act (CAA).

DATES: Effective Date: This final rule is effective September 17, 2007.

ADDRESSES: EPA has established a docket for this action under Docket ID No. EPA-R08-OAR-2006-0163. All documents in the docket are listed on the http://www.regulations.gov Web site. Although listed in the index, some information is not publicly available, e.g., Confidential Business Information (CBI) or other information whose disclosure is restricted by statute. Certain other material, such as copyrighted material, is not placed on the Internet and will be publicly available only in hard copy form. Publicly available docket materials are available either electronically through http://www.regulations.gov or in hard copy at the Air and Radiation Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8 a.m. to 4 p.m., excluding Federal holidays.

FOR FURTHER INFORMATION CONTACT: Rebecca Russo, Air and Radiation Program, Environmental Protection Agency (EPA), Region 8, Mailcode 8P-AR, 1595 Wynkoop Street, Denver, Colorado 80202-1129, (303) 312-6757, russo.rebecca@epa.gov.

SUPPLEMENTARY INFORMATION:

Table of Contents

I. Background

II. Redesignation From Nonattainment to Attainment for CO for the Missoula Area

III. Approval of the Missoula Area's 2000 Attainment Emission Inventory and Maintenance Plan

IV. Approval of the Transportation Conformity Motor Vehicle Emission Budgets

V. Approval of 1993 and 1996 CO Periodic Emission Inventories

VI. Final Action

VII. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words State or Montana mean the State of Montana, unless the context indicates otherwise.

(v) The initials NAAQS mean National Ambient Air Quality Standard.

I. Background

On April 25, 2007 (72 FR 20480), EPA published a notice of proposed rulemaking (NPR) for the State of Montana. The NPR proposed approval of the change in the legal designation of the Missoula area from nonattainment for CO to attainment. The NPR also proposed approval of the year 2000 attainment emission inventory and the maintenance plan that is designed to keep the area in attainment for CO for the next 13 years. The NPR also proposed approval of the transportation conformity motor vehicle emissions budgets (MVEB) for 2000, 2010, and 2020, and proposed approval of the 1993 and 1996 CO periodic emission inventories (PEI).

On May 27, 2005, the Governor of Montana submitted a request to redesignate the Missoula “moderate” CO nonattainment area to attainment for the CO NAAQS. The Governor also submitted a CO maintenance plan, which includes transportation conformity MVEBs for 2000, 2010, and 2020. Before EPA can approve a redesignation request, we must decide that all applicable SIP provisions have been fully approved. Approval of the applicable SIP provisions may occur simultaneously with our final approval of the redesignation request, which is why we are also approving the 1993 and 1996 CO periodic emission inventories.

The NPR provided the public until May 25, 2007 to provide comments. Because no adverse comments were received by EPA, we are finalizing this rulemaking.

II. Redesignation From Nonattainment to Attainment for CO for the Missoula Area

Under the CAA, we can change designations if acceptable data are available and if certain other requirements are met. See CAA section 107(d)(3). Section 107(d)(3)(E) of the CAA provides that the Administrator may not promulgate a redesignation of a nonattainment area to attainment unless five conditions have been met. Each one will be discussed below.

(i) The Administrator determines that the area has attained the national ambient air quality standard. Montana's CO redesignation request for the Missoula area is based on an analysis of quality assured ambient air quality monitoring data that are relevant to the redesignation request. As presented in section 2.1.1 of the maintenance plan, ambient air quality monitoring data for consecutive calendar years 2000 through 2003 show a measured exceedance rate of the CO NAAQS of 1.0 or less per year, per monitor, in the Missoula nonattainment area. Further, we have reviewed ambient air quality data from 2004 through December 2006 and the Missoula area continues to show attainment of the CO NAAQS. Therefore, we believe the Missoula area has met the first component for redesignation: Demonstration of attainment of the CO NAAQS. We note that the State has also committed, in the maintenance plan, to continue the necessary operation of the CO monitor in compliance with all applicable Federal regulations and guidelines.

(ii) The Administrator has fully approved the applicable implementation plan for the area under CAA section 110(k). EPA previously approved SIP revisions based on the pre-1990 CAA and its implementing regulations as well as SIP revisions required under the CAA 1990 amendments. In this action, EPA is approving the Missoula area's 1993 periodic CO emissions inventory, the 1996 periodic CO emissions inventory, and the 2000 CO emission inventory (for 1999) as meeting the periodic emissions inventory requirement. Thus, with our final approval of these SIP revisions, we will have fully approved the Missoula area's CO inventory provisions of the SIP under CAA section 110(k).

(iii) The Administrator determines that the improvement in air quality is due to permanent and enforceable reductions in emissions resulting from implementation of the applicable implementation plan and applicable Federal air pollutant control regulations and other permanent and enforceable reductions. The CO emissions reductions for the Missoula area were achieved primarily through an oxygenated fuels program, the Federal Motor Vehicle Control Program, residential woodburning regulations, changes in the transportation infrastructure involving the reconstruction of the Brooks/South/Russell (B/S/R) intersection, and outdoor open burning regulations. These five control strategies are fully discussed in section 2.3 of the maintenance plan. We have evaluated the various local, state, and federal control measures, the original 1990 base year CO emission inventory, the 1993 periodic CO emission inventory, the 1996 periodic CO emission inventory, and the 2000 attainment year CO inventory that was provided with the State's May 27, 2005 submittal and have concluded that the improvement in air quality in the Missoula nonattainment area has resulted from emission reductions that are permanent and enforceable.

(iv) The Administrator has fully approved a maintenance plan for the area as meeting the requirements of CAA section 175A. Section 175A of the CAA sets forth the elements of a maintenance plan for areas seeking redesignation from nonattainment to attainment. The maintenance plan must demonstrate continued attainment of the applicable NAAQS for at least ten years after the Administrator approves a redesignation to attainment. Eight years after the promulgation of the redesignation, the State must submit a revised maintenance plan that demonstrates continued attainment for a subsequent ten-year period following the initial ten-year maintenance period. To address the possibility of future NAAQS violations, the maintenance plan must contain contingency measures, with a schedule for adoption and implementation that are adequate to assure prompt correction of a violation. EPA is approving the maintenance plan for the Missoula nonattainment area because we have determined that the State's maintenance plan meets the requirements of section 175A.

(v) The State containing such area has met all requirements applicable to the area under section 110 and part D of the CAA. On January 10, 1980, we approved revisions to Montana's SIP as meeting the requirements of section 110(a)(2) of the CAA (see 45 FR 2034). Although section 110 of the CAA was amended in 1990, most of the changes were not substantial. Thus, we have determined that the SIP revisions approved in 1980 continue to satisfy the requirements of section 110(a)(2). In addition, we have analyzed the SIP provisions we are approving as part of this action, and we have determined they comply with the relevant requirements of section 110(a)(2).

Before the Missoula “moderate” CO nonattainment area may be redesignated to attainment, the State must have fulfilled the applicable requirements of CAA part D. See, CAA section 172 et seq. Under part D, an area's classification indicates the requirements to which it will be subject. Subpart 1 of part D sets forth the basic nonattainment requirements applicable to all nonattainment areas, whether classified or nonclassified. Subpart 3 of part D contains specific provisions for “moderate” CO nonattainment areas.

The relevant subpart 1 requirements are contained in CAA sections 172(c) and 176. Our General Preamble (see 57 FR 13529, 13533, April 16, 1992) provides EPA's interpretations of the CAA requirements for “moderate” CO areas, and states that the applicable requirements of CAA section 172 are 172(c)(3) (emissions inventory), 172(c)(5) (new source review permitting program), 172(c)(7) (section 110(a)(2) air quality monitoring requirements), and 172(c)(9) (contingency measures).

For the CAA section 172(c)(3) emissions inventory requirement, the State submitted a 1990 base year CO inventory for the Missoula area on July 18, 1995 which met the requirements of section 172(c)(3) of the CAA. We approved this inventory on December 15, 1997 (62 FR 65613).

For CAA section 172(c)(5) New Source Review (NSR) requirements, the State has a fully-approved NSR program (60 FR 36715, July 18, 1995.) The State also has a fully approved PSD program (60 FR 36715, July 18, 1995) that will now apply, instead of nonattainment NSR.

For CAA section 172(c)(7) provisions (compliance with CAA section 110(a)(2) Air Quality Monitoring Requirements), Montana's CO redesignation request for the Missoula area is based on an analysis of quality assured ambient air quality monitoring data that are relevant to the redesignation request. As presented in section 2.1.1 of the maintenance plan, ambient air quality monitoring data for consecutive calendar years 2000 through 2003 show a measured exceedance rate of the CO NAAQS of 1.0 or less per year, per monitor, in the Missoula nonattainment area. Further, we have reviewed ambient air quality data from 2004 through December 2006 and the Missoula area continues to show attainment of the CO NAAQS. All of these data were collected and analyzed as required by EPA (see 40 CFR 50.8 and 40 CFR 50, Appendix C) and have been archived by the State in our Air Quality System (AQS) national database. Therefore, we have determined that the Missoula area has met the applicable air quality monitoring requirements of CAA section 110(a)(2).

For CAA section 172(c)(9) contingency measures requirements, the State submitted a contingency measure, involving residential woodburning devices, on March 2, 1994. We approved this CO contingency measure on December 13, 1994 (59 FR 64133).

The relevant subpart 3 provisions appear in CAA section 187. The CAA requirements for a CO nonattainment area, classified as “moderate” with a design value of 12.7 ppm or less, that are applicable to Missoula are a 1990 base year inventory (CAA section 187(a)(1)), contingency provisions (CAA section 187(a)(3)), and periodic emission inventories (CAA section 187(a)(5)).

For CAA section 187(a)(1) emissions inventory requirement, the State submitted a 1990 base year CO emissions inventory for the Missoula area on July 18, 1995 which met the requirements of CAA section 187(a)(1). We approved this inventory on December 15, 1997 (62 FR 65613).

For CAA section 187(a)(3) contingency provisions requirement, as discussed above the State submitted a contingency measure involving residential woodburning devices on March 2, 1994. We approved this CO contingency measure on December 13, 1994 (59 FR 64133).

For CAA section 187(a)(5) PEI requirements, the State submitted CO PEIs for 1993 and 1996 on January 27, 2000. In addition, the State submitted a year 2000 CO emission inventory, on July 19, 2004, that qualifies for the 1999 PEI and is also the basis for the attainment year 2000 CO emission inventory that is part of the State's Missoula CO maintenance plan. We have reviewed these CO PEIs and have determined they contain comprehensive information with respect to point, area, non-road, and on-road mobile sources and were prepared in accordance with EPA guidance and meets the requirements of CAA section 187(a)(5).

III. Approval of the Missoula Area's 2000 Attainment Emission Inventory and Maintenance Plan

We are approving the year 2000 attainment emission inventory and the maintenance plan that is designed to keep the area in attainment for CO for the next 13 years. The year 2000 attainment emission inventory is discussed in the paragraph above concerning CAA section 187(a)(5) PEI requirements.

The State submitted a maintenance plan on May 27, 2005 for the Missoula nonattainment area. The plan uses a year 2000 attainment inventory and includes interim-year projections with a final maintenance year of 2020. EPA is approving the maintenance plan because we have determined that it meets the requirements of CAA section 175A.

IV. Approval of the Transportation Conformity Motor Vehicle Emission Budgets

In this action we are also approving the transportation conformity MVEBs for 2000, 2010, and 2020. The Missoula CO maintenance plan defines the CO MVEBs in the Missoula maintenance area. Our analysis indicates that the submitted budgets are consistent with maintenance of the CO NAAQS throughout the maintenance period. Therefore, we are approving the 44.86 tons per day budget for 2000, 43.22 tons per day budget for 2010, and 42.67 tons per day budget for 2020 for the Missoula area.

V. Approval of 1993 and 1996 CO Periodic Emission Inventories

The State submitted CO PEI for 1993 and 1996 on January 27, 2000. We have reviewed these CO PEI and have determined they contain comprehensive information with respect to point, area, non-road, and on-road mobile sources and were prepared in accordance with EPA guidance.

VI. Final Action

In this action, EPA is approving the request for redesignation from nonattainment to attainment for CO for the Missoula area. In this action, EPA is also approving the Missoula area's 2000 attainment emission inventory and the maintenance plan that is designed to keep the area in attainment for CO for the next 13 years. In this action we are also approving the transportation conformity MVEB for 2000, 2010, and 2020. And finally, in this action we are approving the 1993 and 1996 CO PEI.

VII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 16, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Intergovernmental relations, Reporting and recordkeeping requirements.

40 CFR Part 81

Air pollution control, National parks, Wilderness areas.

Dated: July 30, 2007.
Kerrigan G. Clough,
Acting Regional Administrator, Region 8.

40 CFR parts 52 and 81 are amended as follows:

PART 52—[AMENDED]

1. The authority citation for part 52 continues to read as follows:

Authority: 42 U.S.C. 7401 et seq.

Subpart BB—Montana

2. Section 52.1373 is amended by adding paragraph (d) to read as follows:

§ 52.1373 Control Strategy: Carbon monoxide.

* * * * *

(d) Revisions to the Montana State Implementation Plan, Carbon Monoxide Redesignation Request and Maintenance Plan for Missoula, as approved by the Missoula City-County Air Pollution Control Board on January 20, 2005, by the Missoula County Commissioners on January 26, 2005 and by the Missoula City Council on March 7, 2005; and submitted by the Governor on May 27, 2005.

PART 81—[AMENDED]

1. The authority citation for part 81 continues to read as follows:

Authority: 42 U.S.C. 7401 et seq.

Subpart C—[Amended]

2. In § 81.327, the table entitled “Montana-Carbon Monoxide” is amended by revising the entry for the “Missoula area” to read as follows:

§ 81.327 Montana.

* * * * *

Montana—Carbon Monoxide
Designated area | Designation: Date¹ | Designation: Type | Classification: Date¹ | Classification: Type
* * * * * * *
Missoula Area: | September 17, 2007 | Attainment
Missoula County (part)
Missoula and vicinity including the following (Range and Township) sections: R19W T14N—sections: 29 and 32; R19W T13N—sections 2, 5, 7, 8, 11, 14 through 24, and 26 through 34; R19W T12N—sections: 4 through 7; R20W T13N—sections: 23 through 26, 35 and 36
* * * * * * *
¹ This date is November 15, 1990, unless otherwise noted.

* * * * *

[FR Doc. E7-15784 Filed 8-16-07; 8:45 am]

BILLING CODE 6560-50-P